GENERAL SERVICES ADMINISTRATION

[Notice MV-2020-02; Docket No. 2020-0002; Sequence No. 27]

Notice of GSA Live Webinar regarding GSA's Implementation of Section 889 of the FY 2019 National Defense Authorization Act (NDAA); Correction

AGENCY: Office of Governmentwide Policy (OGP), General Services Administration (GSA).

ACTION: Notice; correction.

SUMMARY: On July 22, 2020, GSA published a notice regarding the hosting of a live and recorded virtual webinar on August 12, 2020 at 1:00 p.m. Eastern Standard Time (EST). This notice is to list the correct website for the meeting registration.

FOR FURTHER INFORMATION CONTACT: Patricia Richardson at patricia.m.richardson@gsa.gov or Maria Swaby at 202-208-0291.

SUPPLEMENTARY INFORMATION:

Correction

In FR Doc. 2020-15846, published on July 22, 2020 at 85 FR 44302, make the following correction:

On page 44302, third column, in the ADDRESSES section, remove “HERE” and add “https://gsa.zoomgov.com/webinar/register/WN_hQ6tHTRDR-mMNnRRxJy22Q” in its place.

Jeffrey A. Koses,
Senior Procurement Executive, Office of Acquisition Policy, Office of Government-wide Policy.

[FR Doc. 2020-16242 Filed 7-24-20; 8:45 am]

BILLING CODE 6820-61-P